DEPARTMENT OF ENERGY

Western Area Power Administration

[DOE/EIS-0440]

Notice of Availability of the Final Environmental Impact Statement for the Quartzsite Solar Energy Project and the Yuma Field Office Proposed Resource Management Plan Amendment

AGENCY: Western Area Power Administration, DOE.

ACTION: Notice of Availability.

SUMMARY: Quartzsite Solar Energy (QSE) has requested to interconnect the Quartzsite Solar Energy Project (Project), a proposed 100-megawatt (MW) concentrating solar power plant, to Western Area Power Administration's (Western) Bouse-Kofa 161-kilovolt (kV) transmission line. QSE has submitted a right-of-way (ROW) application to the Bureau of Land Management (BLM) for the Project facility to be constructed on a total of approximately 1,675 acres of land managed by the BLM. The Project area is in an undeveloped area of the Sonoran Desert in La Paz County, Arizona.

In accordance with the National Environmental Policy Act (NEPA) of 1969, as amended, and the Federal Land Policy and Management Act (FLPMA) of 1976, as amended, Western and the BLM prepared a Final Environmental Impact Statement ¹ (EIS) and Yuma Field Office (Yuma) Proposed Resource Management Plan Amendment (PRMPA) for the Project, and by this Notice Western and the BLM are announcing the availability of the Final EIS/PRMPA. Western is the lead Federal agency for purposes of satisfying the NEPA requirements with the BLM acting as a cooperating agency.

¹ On November 16, 2011, DOE's Acting General Counsel delegated to Western's Administrator all the authorities of the General Counsel respecting environmental impact statements.

DATES: The Final EIS/PRMPA will be available for a 30-day period prior to the agencies making decisions on the Project and issuing separate Records of Decision. The BLM planning regulations state that any person who meets the conditions as described in the regulations may protest the BLM's Yuma PRMPA. A person who meets the conditions and files a protest must file the protest within 30 days of the date that the Environmental Protection Agency publishes its notice of availability in the Federal Register. The protest procedures are described in an appendix of the Final EIS/PRMPA.

ADDRESSES: Copies of the Final EIS/PRMPA have been sent to affected Federal, State, and local government agencies and to other stakeholders. Copies are available for public inspection at the BLM Yuma Field Office, 2555 East Gila Ridge Road, Yuma, AZ 85365 and the BLM Arizona State Office, One North Central Avenue, Suite 800, Phoenix, AZ 85004. Interested persons may also review the document on the following Web site: http://ww2.wapa.gov/sites/Western/transmission/interconn/Pages/QuartzsiteSolar.aspx.

All protests must be in writing and mailed to one of the following addresses: Regular Mail: BLM Director (210), Attention: Brenda Hudgens-Williams, P.O. Box 71383, Washington, DC 20024-1383. Overnight Mail: BLM Director (210), Attention: Brenda Hudgens-Williams, 20 M Street SE., Room 2134LM, Washington, DC 20003.

FOR FURTHER INFORMATION CONTACT: For information on the proposed Project, the EIS and general information about Western's transmission system, contact Ms. Liana Reilly, NEPA Document Manager, Western Area Power Administration, P.O. Box 281213, Lakewood, CO 80228-8213, telephone (720) 962-7253 or by email QuartzsiteSolarEIS@wapa.gov.. For general information on the DOE NEPA process, please contact Ms. Carol M. Borgstrom, Director, Office of NEPA Policy and Compliance (GC-54), U.S. Department of Energy, 1000 Independence Avenue SW., Washington, DC 20585, telephone (202) 586-4600 or (800) 472-2756.

For information on the BLM's role with the Project or the Yuma PRMPA, contact Mr. Eddie Arreola, Supervisory Project Manager, telephone (602) 417-9505, One North Central Avenue, Suite 800 Phoenix, AZ 85004. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION: Western is a Federal agency under the U.S. Department of Energy (DOE) that markets and transmits wholesale electrical power through an integrated 17,000-circuit mile, high-voltage transmission system across 15 western states. Western's Open Access Transmission Service Tariff (Tariff) provides non-discriminatory access to Western's electric transmission system. Western provides transmission services if there is available capacity and the reliability of the transmission system is maintained.

Interested parties were notified of the proposed Project and the public comment opportunity through a Notice of Intent published in the Federal Register on January 14, 2010 (75 FR 2133). On March 30, 2011, the BLM issued a separate Notice of Intent for the Yuma PRMPA (76 FR 17668). A Notice of Availability (NOA) for the Draft EIS/PRMPA for the proposed Project in La Paz County was published in the Federal Register on November 10, 2011 (76 FR 70125). Western and the BLM held public hearings on the Draft EIS/PRMPA in Yuma, Arizona, on December 13, 2011, and in Quartzsite, Arizona, on December 14, 2011. The formal comment period closed on February 8, 2012. Comments received during the comment period were considered in preparing the Final EIS/PRMPA.

Proposed Project

The proposed Project is a 100-MW solar electric power plant that would use concentrating solar power technology to capture the sun's heat to make steam, which would power traditional steam turbine generators. The Project would contain the central receiver or tower, a solar field consisting of mirrors or heliostats to reflect the sun's energy to the central tower, a conventional steam turbine generator, insulated storage tanks for hot and cold liquid salt, ancillary tanks, evaporation ponds, a temporary construction laydown area, technical and non-technical buildings, transformers and a 161/230-kV electrical substation, roads, and water wells. All Project components would be located on BLM-managed land. QSE has requested to interconnect the proposed Project to Western's transmission system. A new 1.5-mile long 161/230-kV generator tie-line would extend from the southern boundary of the solar facility boundary to a new switchyard to be constructed adjacent to Western's existing Bouse-Kofa 161-kV transmission line. The switchyard would be on BLM-managed land and would be owned and operated by Western.

QSE has submitted a ROW application to the BLM for the Project. The ROW application is for a total of 26,273 acres, of which 1,675 acres would be utilized for the final Project ROW if approved. The Project site is in an undeveloped area in La Paz County, Arizona, east of State Route (SR) 95, approximately 10 miles north of Quartzsite, Arizona, on lands managed by the BLM.

Agency Purpose and Need

Western's purpose and need for the action is to respond to QSE's interconnection request in accordance with Western's Tariff. The BLM's purpose and need for the action is to respond to QSE's application for a ROW under FLPMA to construct, operate, and decommission the solar facility, 161/230-kV generation tie-line and access road. The BLM also needs to respond to Western's application for a switchyard, and fiber optic line on public lands the BLM administers. The BLM will decide whether to approve, approve with modification, or deny the ROW applications for the proposed Project.

Proposed Agency Actions

Western's proposed action is to interconnect the proposed Project to Western's existing Bouse-Kofa 161-kV transmission line. As part of Western's proposed action, Western would also construct, operate, and maintain a new switchyard and would establish a fiber optic and/or microwave telecommunications pathway. The BLM, in addition to responding to the project ROW applications analyzed in the EIS, is also considering approving the Yuma PRMPA. The Yuma PRMPA recognizes the compatibility of solar generation facilities on public lands, but requires that such activities conform to designated visual resource management (VRM) classes. If the BLM decides to grant a ROW for the project the BLM would also approve the Yuma PRMPA as required.

Alternatives

Three alternatives were analyzed in the FEIS including the QSE's proposed Project with dry-cooling technology, Alternative 1 with hybrid cooling technology, and the No Action alternative. Also analyzed were three alternatives related to the Yuma PRMPA including approving the PRMPA to change approximately 6,800 acres of VRM Class III to VRM Class IV along with Project approval, approving the PRMPA to change approximately 6,800 acres of VRM Class III to VRM Class IV without Project approval, and the No Action alternative of not approving the PRMPA and leaving the current VRM Class III designation in place.

Western's preferred alternative is to grant the interconnection request for the proposed Project to Western's existing Bouse-Kofa 161-kV transmission line and to construct, operate, and maintain a new switchyard. The BLM's preferred alternative is to approve the ROW for the Project which consists of a 100-MW solar thermal generation power plant using dry-cooling technology and a new 1.5 mile long 161/230-kV generator tie-line, switchyard, and access road along with approval of the PRMPA to change the Project area to VRM Class IV.

Protest Information

Instructions for filing a protest with the BLM Director regarding the Yuma PRMPA may also be found at 43 CFR 1610.5-2. Email and faxed protests will not be accepted as valid protests unless the protesting party also provides the original letter by either regular or overnight mail postmarked by the close of the protest period. Under these conditions, the BLM will consider the email or faxed protest as an advance copy and it will receive full consideration. If you wish to provide the BLM with such advance notification, please direct faxed protests to the attention of the BLM protest coordinator at (202)-912-7212, and emails to Brenda_hudgens-williams@blm.gov. All protests, including the follow-up letter to emails or faxes, must be in writing and mailed to the appropriate address, as set forth in the ADDRESSES section above. Before including your phone number, email address, or other personal identifying information in your protest, you should be aware that your entire protest, including your personal identifying information, may be made publicly available at any time. While you can ask the BLM in your protest to withhold your personal identifying information from public review, the BLM cannot guarantee that it will be able to do so.

Dated: December 14, 2012.
Anita J. Decker,
Acting Administrator.

[FR Doc. 2012-31171 Filed 12-27-12; 8:45 am]

BILLING CODE 6450-01-P